DEPARTMENT OF THE INTERIOR

Bureau of Land Management

[WO-305-1430-PF-01-24 1A]

Extension of Approved Information Collection, OMB Control Number 1004-0189

AGENCY: Bureau of Land Management, Interior.

ACTION: Notice and request for comments.

SUMMARY: In accordance with the Paperwork Reduction Act of 1995, the Bureau of Land Management (BLM) is requesting the Office of Management and Budget (OMB) to extend an existing approval to collect information from entities desiring a right-of-way across public lands under 43 CFR parts 2800 and 2880. The BLM and several other agencies use Form 299, Application for Transportation and Utility System and Facility, to determine whether applicants qualify to hold right-of-way grants across public lands, and for several other purposes.

DATES: You must submit your comments to the BLM at the address below on or before May 20, 2008. The BLM will not necessarily consider any comments received after this date.

ADDRESSES: You may send comments to the U.S. Department of the Interior, Bureau of Land Management, Mail Stop 401LS, 1849 C Street, NW., Washington, DC 20045, “ATTN: 1004-0189.”

You may deliver comments to the Bureau of Land Management, Administrative Record, Room 401LS, 1620 L Street, NW., Washington, DC 20036.

All comments will be available for public review at the L Street address during regular business hours (7:45 a.m. to 4:15 p.m.) Monday through Friday, except on Federal holidays.

FOR FURTHER INFORMATION CONTACT: You may contact Alzata L. Ransom, Division of Lands, Realty and Cadastral Survey, on (202) 452-7772 (Commercial or FTS). Persons who use a telecommunication device for the deaf (TDD) may call the Federal Information Relay Service (FIRS) on 1-800-877-8330, 24 hours a day, seven days a week, to leave a message for Ms. Ransom.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title XI of the Alaska National Interest Lands Conservation Act of December 2, 1980, requires that the Departments of Agriculture, Interior, and Transportation use a consolidated form in connection with rights-of-way for transportation and utility. The Federal Land Policy and Management Act of 1976, the Mineral Leasing Act, and the regulations at 43 CFR parts 2800 and 2880 authorize the BLM to use Form 299. The BLM will use Form 299 to collect information to:

(1) Determine whether the applicant qualifies for a right-of-way grant;

(2) Identify and communicate with the applicant on its right-of-way application;

(3) Identify the project location;

(4) Determine and compare existing and proposed land uses; and

(5) Determine if alternate routes and modes are available to the applicant on the right-of-way application.

If you do not provide this information, the BLM would not be able to properly administer its right-of-way program.

Based upon the BLM's experience and recent tabulations of activity, we process approximately 8,340 applications each year. The public reporting information collection burden takes 25 hours to complete. The estimated number of responses per year is 8,340 and the annual information burden is 208,500 hours.

Any member of the public may request and obtain, without charge, a copy of Form 299 by contacting the person identified under FOR FURTHER INFORMATION CONTACT.

The BLM will summarize all responses to this notice and include them in the request for OMB approval. All comments will become a matter of public record.

Dated: March 17, 2008.
Alexandra Ritchie,
Acting Bureau Information Collection Clearance Officer, Regulatory Affairs Division, Bureau of Land Management.

[FR Doc. E8-5771 Filed 3-20-08; 8:45 am]

BILLING CODE 4310-84-P